DEPARTMENT OF ENERGY

Federal Energy Regulatory Commission

Combined Notice of Filings #1

Take notice that the Commission received the following electric corporate filings:

Docket Numbers: EC21-107-000.

Applicants: Lincoln Land Wind, LLC.

Description: Application for Authorization Under Section 203 of the Federal Power Act of Lincoln Land Wind, LLC.

Filed Date: 7/20/21.

Accession Number: 20210720-5124.

Comments Due: 5 p.m. ET 8/10/21.

Take notice that the Commission received the following exempt wholesale generator filings:

Docket Numbers: EG21-198-000.

Applicants: Glacier Sands Wind Power, LLC.

Description: Notice of Self-Certification of Exempt Wholesale Generators Status of Glacier Sands Wind Power, LLC.

Filed Date: 7/21/21.

Accession Number: 20210721-5073.

Comments Due: 5 p.m. ET 8/11/21.

Take notice that the Commission received the following electric rate filings:

Docket Numbers: ER20-2108-005.

Applicants: Great Bay Solar II, LLC.

Description: Compliance filing: Compliance Filing (ER20-2108-000, et al) to be effective 8/19/2020.

Filed Date: 7/21/21.

Accession Number: 20210721-5045.

Comments Due: 5 p.m. ET 8/11/21.

Docket Numbers: ER21-40-000.

Applicants: ConocoPhillips Company.

Description: Supplement to Cost Justification Filing of ConocoPhillips Company.

Filed Date: 7/19/21.

Accession Number: 20210719-5148.

Comments Due: 5 p.m. ET 8/9/21.

Docket Numbers: ER21-42-000.

Applicants: Tenaska Power Services Co.

Description: Tenaska Power Services Co. submits Supplement to October 7, 2020 Cost Justification Filing.

Filed Date: 7/19/21.

Accession Number: 20210719-5222.

Comments Due: 5 p.m. ET 8/9/21.

Docket Numbers: ER21-47-000.

Applicants: Tucson Electric Power Company.

Description: Tucson Electric Power Company submits Supplement to October 7, 2020 Cost Justification Filing.

Filed Date: 7/19/21.

Accession Number: 20210719-5213.

Comments Due: 5 p.m. ET 8/9/21.

Docket Numbers: ER21-52-000.

Applicants: Public Service Company of New Mexico.

Description: Public Service Company of New Mexico submits Supplement to October 7, 2020 Cost Justification Filing.

Filed Date: 7/19/21.

Accession Number: 20210719-5216.

Comments Due: 5 p.m. ET 8/9/21.

Docket Numbers: ER21-56-000.

Applicants: Guzman Energy, LLC.

Description: Guzman Energy LLC submits Supplement to October 7, 2020 Cost Justification Filing.

Filed Date: 7/16/21.

Accession Number: 20210716-5192.

Comments Due: 5 p.m. ET 8/6/21.

Docket Numbers: ER21-58-000.

Applicants: TransAlta Energy Marketing (U.S.) Inc.

Description: TransAlta Energy Marketing (U.S.) Inc. submits Supplement to October 7, 2020 Notice and Justification for Spot Sales above Soft Cap.

Filed Date: 7/19/21.

Accession Number: 20210719-5154.

Comments Due: 5 p.m. ET 8/9/21.

Docket Numbers: ER21-60-000.

Applicants: PacifiCorp.

Description: PacifiCorp submits Supplement to October 7, 2020 Cost Justification Filing.

Filed Date: 7/19/21.

Accession Number: 20210719-5219.

Comments Due: 5 p.m. ET 8/9/21.

Docket Numbers: ER21-62-000.

Applicants: Uniper Global Commodities North America LLC.

Description: Uniper Global Commodities North America LLC submits Supplement to October 7, 2020 Cost Justification Filing.

Filed Date: 7/19/21.

Accession Number: 20210719-5214.

Comments Due: 5 p.m. ET 8/9/21.

Docket Numbers: ER21-65-000.

Applicants: Tri-State Generation and Transmission Association, Inc.

Description: Tri-State Generation and Transmission Association, Inc. submits Amended and Restated Soft Price Cap Report for August 2020.

Filed Date: 7/19/21.

Accession Number: 20210719-5104.

Comments Due: 5 p.m. ET 8/9/21.

Docket Numbers: ER21-135-000.

Applicants: EDF Trading North America, LLC.

Description: EDF Trading North America, LLC submits Supplement to October 16, 2020 Cost Justification Filing.

Filed Date: 7/19/21.

Accession Number: 20210719-5223.

Comments Due: 5 p.m. ET 8/9/21.

Docket Numbers: ER21-434-000.

Applicants: Nevada Power Company.

Description: Nevada Power Company submits Supplement to November 18, 2020 Cost Justification Filing.

Filed Date: 7/19/21.

Accession Number: 20210719-5217.

Comments Due: 5 p.m. ET 8/9/21.

Docket Numbers: ER21-1994-001.

Applicants: El Paso Electric Company.

Description: Tariff Amendment: Service Agreement No. 353, LGIA with National Grid Renewables to be effective 12/31/9998.

Filed Date: 7/20/21.

Accession Number: 20210720-5094.

Comments Due: 5 p.m. ET 8/10/21.

Docket Numbers: ER21-2466-000.

Applicants: Northern States Power Company, a Minnesota corporation.

Description: Notice of Cancellation of the Operation and Maintenance Agreement (Service Agreement No. 259) of Northern States Power Company, a Minnesota corporation.

Filed Date: 7/20/21.

Accession Number: 20210720-5062.

Comments Due: 5 p.m. ET 8/10/21.

Docket Numbers: ER21-2468-000.

Applicants: PacifiCorp, Nevada Power Company, Sierra Pacific Power Company.

Description: Joint Petition for Limited Waiver of PacifiCorp, et al.

Filed Date: 7/19/21.

Accession Number: 20210719-5221.

Comments Due: 5 p.m. ET 7/26/21.

Docket Numbers: ER21-2469-000.

Applicants: Renewable World Energies, LLC.

Description: Request for Limited Waiver, et al. of Renewable World Energies.

Filed Date: 7/21/21.

Accession Number: 20210721-5024.

Comments Due: 5 p.m. ET 8/11/21.

Docket Numbers: ER21-2470-000.

Applicants: AEP Texas Inc.

Description: § 205(d) Rate Filing: AEPTX-OCI Sunray System Upgrade Agreement to be effective 7/7/2021.

Filed Date: 7/21/21.

Accession Number: 20210721-5033.

Comments Due: 5 p.m. ET 8/11/21.

Docket Numbers: ER21-2471-000.

Applicants: AEP Texas Inc.

Description: § 205(d) Rate Filing: AEPTX-House Mountain Generation Interconnection Agreement to be effective 7/7/2021.

Filed Date: 7/21/21.

Accession Number: 20210721-5037.

Comments Due: 5 p.m. ET 8/11/21.

Docket Numbers: ER21-2472-000.

Applicants: Mid-Atlantic Interstate Transmission, LLC, PJM Interconnection, L.L.C.

Description: § 205(d) Rate Filing: Mid-Atlantic Interstate Transmission submits Revised IA SA No. 4577 to be effective 9/21/2021.

Filed Date: 7/21/21.

Accession Number: 20210721-5039.

Comments Due: 5 p.m. ET 8/11/21.

Docket Numbers: ER21-2473-000.

Applicants: Liberty Utilities (Granite State Electric) Corp.

Description: § 205(d) Rate Filing: Borderline Sales Rate Sheet Update Revised per PUC Order July 2021 to be effective 7/1/2021.

Filed Date: 7/21/21.

Accession Number: 20210721-5048.

Comments Due: 5 p.m. ET 8/11/21.

Docket Numbers: ER21-2474-000.

Applicants: Pleinmont Solar 2, LLC.

Description: Baseline eTariff Filing: Reactive Power Compensation Filing to be effective 7/23/2021.

Filed Date: 7/21/21.

Accession Number: 20210721-5061.

Comments Due: 5 p.m. ET 8/11/21.

Docket Numbers: ER21-2475-000.

Applicants: PJM Interconnection, L.L.C.

Description: § 205(d) Rate Filing: Original WMPA, Service Agreement No. 6033; Queue No. AG1-337 to be effective 6/21/2021.

Filed Date: 7/21/21.

Accession Number: 20210721-5088.

Comments Due: 5 p.m. ET 8/11/21.

Docket Numbers: ER21-2476-000.

Applicants: PJM Interconnection, L.L.C.

Description: § 205(d) Rate Filing: Original WMPA, Service Agreement No. 6118; Queue No. AG1-330 to be effective 6/21/2021.

Filed Date: 7/21/21.

Accession Number: 20210721-5092.

Comments Due: 5 p.m. ET 8/11/21.

Docket Numbers: ER21-2477-000.

Applicants: Tri-State Generation and Transmission Association, Inc.

Description: § 205(d) Rate Filing: Rate Schedule FERC No. 328 between Tri-State and Mountain View to be effective 7/22/2021.

Filed Date: 7/21/21.

Accession Number: 20210721-5109.

Comments Due: 5 p.m. ET 8/11/21.

Docket Numbers: ER21-2478-000.

Applicants: Milford Power Company, LLC.

Description: § 205(d) Rate Filing: Administrative Cancellations and Revisions to Tariffs to be effective 9/20/2021.

Filed Date: 7/21/21.

Accession Number: 20210721-5115.

Comments Due: 5 p.m. ET 8/11/21.

Docket Numbers: ER21-2479-000.

Applicants: Illinois Power Marketing Company.

Description: Compliance filing: Administrative Cancellations and Revisions to Tariffs to be effective 9/20/2021.

Filed Date: 7/21/21.

Accession Number: 20210721-5116.

Comments Due: 5 p.m. ET 8/11/21.

Take notice that the Commission received the following public utility holding company filings:

Docket Numbers: PH21-14-000.

Applicants: NextEra Energy, Inc.

Description: NextEra Energy, Inc. submits FERC-65B Notice of Non-Material Change in Fact to Waiver Notification.

Filed Date: 7/21/21.

Accession Number: 20210721-5094.

Comments Due: 5 p.m. ET 8/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2021.
Debbie-Anne A. Reese,
Deputy Secretary.

[FR Doc. 2021-15927 Filed 7-26-21; 8:45 am]

BILLING CODE 6717-01-P